ENVIRONMENTAL PROTECTION AGENCY

[FRL OP-OFA-137]

Environmental Impact Statements; Notice of Availability

Responsible Agency: Office of Federal Activities, General Information 202-564-5632 or https://www.epa.gov/nepa.

Weekly receipt of Environmental Impact Statements (EIS)

Filed July 22, 2024 10 a.m. EST Through July 29, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240133, Final, Caltrans, CA, I-710 Corridor Project Final EIR/EIS, Review Period Ends: 09/03/2024, Contact: Garrett Damrath 213-897-9016.

EIS No. 20240134, Final, NMFS, NJ, Adoption—Atlantic Shores Offshore Wind South, Contact: Kelsey Potlock 301-427-8401.

The National Marine Fisheries Service (NMFS) has adopted the Bureau of Ocean Energy Management's Final EIS No. 20240091 filed 05/23/2024 with the Environmental Protection Agency. The NMFS was a cooperating agency on this project. Therefore, republication of the document is not necessary under Section 1506.3(b)(2) of the CEQ regulations.

EIS No. 20240135, Final, NPS, MI, Isle Royale National Park Wilderness Stewardship Plan, Review Period Ends: 09/03/2024, Contact: Denice Swanke 906-231-4961.

EIS No. 20240136, Final, BLM, OR, Hult Reservoir and Dam Safety, Review Period Ends: 09/03/2024, Contact: Sarah Bickford 541-218-0553.

EIS No. 20240137, Final, BOEM, MD, Maryland Offshore Wind, Review Period Ends: 09/03/2024, Contact: Lorena Edenfield 907-231-7679.

EIS No. 20240138, Final, NRC, REG, Generic Environmental Impact Statement for License Renewal of Nuclear Plants, Final Report, NUREG-1437, Revision 2, Volume 1, 2, and 3, Review Period Ends: 09/03/2024, Contact: Kevin T. Folk 301-415-6944.

EIS No. 20240139, Final, GSA, IL, The Buildings at 202, 214, and 220 South State Street, Chicago, Illinois, Review Period Ends: 09/03/2024, Contact: Joseph Mulligan 312-886-9593.

Amended Notice:

EIS No. 20240115, Final, USCG, TX, Texas Gulflink Deepwater Port License Application, Review Period Ends: 08/30/2024, Contact: Patrick Clark 202-372-1358. Revision to FR Notice Published 07/12/2024; Extending the Comment Period from 08/19/2024 to 08/30/2024.

Dated: July 29, 2024.
Timothy Witman,
Acting Director, NEPA Compliance Division, Office of Federal Activities.

[FR Doc. 2024-17069 Filed 8-1-24; 8:45 am]

BILLING CODE 6560-50-P